DEPARTMENT OF LABOR

Employment and Training Administration

[TA-W-50,560]

Crown Pacific Including Temporary Workers of Express Personnel, Gilchrist, Oregon; Amended Certification Regarding Eligibility To Apply for Worker Adjustment Assistance

In accordance with section 223 of the Trade Act of 1974 (19 U.S.C. 2273) the Department of Labor issued a Certification of Eligibility to Apply for Worker Adjustment Assistance on April 14, 2003, applicable to workers of Crown Pacific, Gilchrist, Oregon. The notice was published in the Federal Register on May 1, 2003 (68 FR 23323).

At the request of the State agency, the Department reviewed the certification for workers of the subject firm. Information provided by the company shows that temporary workers of Express Personnel were employed at Crown Pacific to produce dimensional lumber at the Gilchrist, Oregon location of the subject firm.

Based on these findings, the Department is amending this certification to include temporary workers of Express Personnel employed at Crown Pacific, Gilchrist, Oregon.

The intent of the Department's certification is to include all workers at the Gilchrist location of Crown Pacific who were adversely affected by increased imports.

The amended notice applicable to TA-W-50,560 is hereby issued as follows:

All workers of Crown Pacific, Gilchrist, Oregon, and temporary workers of Express Personnel, producing dimensional lumber at Crown Pacific, Gilchrist, Oregon, who became totally or partially separated from employment on or after October 11, 2002, through April 14, 2005, are eligible to apply for adjustment assistance under Section 223 of the Trade Act of 1974.

Signed at Washington, DC this 9th day of May 2003.
Richard Church,
Certifying Officer, Division of Trade Adjustment Assistance.

[FR Doc. 03-15866 Filed 6-23-03; 8:45 am]

BILLING CODE 4510-30-P